INTERNATIONAL TRADE COMMISSION

[Investigation Nos. 731-TA-1186-1187 (Second Review)]

Certain Stilbenic Optical Brightening Agents From China and Taiwan

Determinations

On the basis of the record ¹ developed in the subject five-year reviews, the United States International Trade Commission (“Commission”) determines, pursuant to the Tariff Act of 1930 (“the Act”), that revocation of the antidumping duty orders on certain stilbenic optical brightening agents from China and Taiwan would be likely to lead to continuation or recurrence of material injury to an industry in the United States within a reasonably foreseeable time.

¹ The record is defined in § 207.2(f) of the Commission's Rules of Practice and Procedure (19 CFR 207.2(f)).

Background

The Commission previously instituted these second five-year reviews on October 2, 2022 (87 FR 59827), but subsequently terminated the reviews on January 13, 2023 (88 FR 2374) following Commerce's final results of sunset reviews and revocation of the orders on certain stilbenic optical brightening agents from China and Taiwan (87 FR 80162, December 29, 2022). Following an appeal by domestic producer Archroma U.S., Inc., the U.S. Court of International Trade directed Commerce and the Commission to undertake reviews of the orders. See Archroma U.S., Inc. v. U.S. Dep't of Commerce, et al., 703 F. Supp. 3d 1396, 1403-04 (Ct. Int'l Trade 2024). The Commission reinstituted these reviews on July 1, 2024 (89 FR 54525) and determined on October 7, 2024 that it would conduct expedited reviews (89 FR 88303, November 7, 2024).

The Commission made these determinations pursuant to section 751(c) of the Act (19 U.S.C. 1675(c)). It completed and filed its determinations in these reviews on February 21, 2025. The views of the Commission are contained in USITC Publication 5591 (February 2025), entitled Certain Stilbenic Optical Brightening Agents from China and Taiwan: Investigation Nos. 731-TA-1186-1187 (Second Review).

By order of the Commission.
Issued: February 21, 2025.
Lisa Barton,
Secretary to the Commission.

[FR Doc. 2025-03148 Filed 2-26-25; 8:45 am]

BILLING CODE 7020-02-P